DEPARTMENT OF THE INTERIOR

National Park Service

Notice of Continuation of Visitor Services

AGENCY: National Park Service, Interior.

ACTION: Public notice.

SUMMARY: Pursuant to the terms of existing concession contracts, the National Park Service hereby gives notice that it has continued visitor services for a period not-to-exceed 1 year from the date of contract expiration with respect to the listed contracts.

DATES: Effective Date: January 1, 2012.

SUPPLEMENTARY INFORMATION: The contracts listed below have been extended to the maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

Conc ID No. | Concessioner name | Park
NACC001-89 | Golf Course Specialists, Inc | National Mall and Memorial Parks.
NACC006-98 | Thanh Van Vo | National Mall and Memorial Parks.
NACC009-98 | Hung Thi Nguyen | National Mall and Memorial Parks.
GATE003-98 | Marinas of the Future, Inc | Gateway National Recreation Area.
SHEN001-85 | ARAMARK Sports and Entertainment Services, Inc | Shenandoah National Park.
LAKE001-73 | Rex G. Maughan & Ruth G. Maughan | Lake Mead National Recreation Area.
LAKE002-82 | Lake Mead RV Village, LLC | Lake Mead National Recreation Area.
LAKE005-97 | Rex G. Maughan | Lake Mead National Recreation Area.
LAKE006-74 | Las Vegas Boat Harbor, Inc | Lake Mead National Recreation Area.
LAKE009-88 | Temple Bar Marina, LLC | Lake Mead National Recreation Area.
LARO001-92 | Dakota Columbia Rentals, LLC | Lake Roosevelt National Recreation Area.
OLYM001-78 | ARAMARK Sports and Entertainment Services, Inc | Olympic National Park.
OLYM002-89 | Log Cabin Resort, Inc | Olympic National Park.
ROLA003-87 | Ross Lake Resort, Inc | North Cascades National Park Service Complex.
SEKI001-97 | Timothy B. Loverin and Patty Loverin | Sequoia and Kings Canyon National Parks.
AMIS002-89 | Lake Amistad Resort and Marina, LLC | Amistad National Recreation Area.
AMIS003-87 | Rough Canyon Marina, LLC | Amistad National Recreation Area.
CACH001-84 | White Dove, Inc., dba Thunderbird Lodge | Canyon de Chelly National Monument.
GLAC002-81 | Glacier Park, Inc | Glacier National Park.
GLCA002-88 | ARAMARK Bullfrog Marina Inc. and Halls Crossing Resort | Glen Canyon National Recreation Area.
GLCA003-69 | ARAMARK Wahweap Lodge and Marina, Inc | Glen Canyon National Recreation Area.
GRTE003-97 | Signal Mountain Lodge, LLC | Grand Teton National Park.
GRTE004-98 | Harold M. Turner, John F. Turner, and Donald M. Turner | Grand Teton National Park.
MEVE001-82 | ARAMARK Mesa Verde Company, Inc | Mesa Verde National Park.
PEFO001-85 | Xanterra Parks and Resorts, LLC | Petrified Forest National Park.
OZAR012-88 | Akers Ferry Canoe Rental, Inc | Ozark National Scenic Riverways.
BLRI001-93 | Southern Highland Handicraft Guild | Blue Ridge Parkway.
BLRI002-83 | Northwest Trading Post, Inc | Blue Ridge Parkway.
CAHA001-98 | Avon-Thornton Limited Partnership | Cape Hatteras National Seashore.
CAHA004-98 | Oregon Inlet Fishing Center, Inc | Cape Hatteras National Seashore.
MACA002-82 | Forever Resorts | Mammoth Cave National Park.
VIIS001-71 | Caneel Bay, Inc | Virgin Islands National Park.

FOR FURTHER INFORMATION CONTACT: Jo A. Pendry, Chief, Commercial Services Program, National Park Service, 1201 Eye Street NW., 11th Floor, Washington, DC 20005, Telephone (202) 513-7156.

Dated: January 6, 2012.
Robert Gordon,
Acting Associate Director, Business Services.

[FR Doc. 2012-3718 Filed 2-16-12; 8:45 am]

BILLING CODE 4312-53-P